FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 29, 2004.

A. Federal Reserve Bank of Atlanta (Sue Costello, Vice President) 1000 Peachtree Street, N.E., Atlanta, Georgia 30303:

1. Carlos Alejandro Safie, Pinecrest, Florida; to retain voting shares of Executive Banking Corporation, and thereby indirectly retain voting shares of Executive National Bank, both of Miami, Florida.

B. Federal Reserve Bank of Dallas (W. Arthur Tribble, Vice President) 2200 North Pearl Street, Dallas, Texas 75201-2272:

1. Gary Arthur Messersmith, Houston, Texas, as trustee, to acquire shares of First Community Bancshares, Inc., Houston, Texas, and thereby indirectly acquire shares of FCBI Delaware, Inc., Wilmington, Delaware, and its subsidiaries, First National Bank of Texas, Killeen, Texas, and Fort Hood National Bank, Fort Hood, Texas.

Board of Governors of the Federal Reserve System, March 9, 2004.
Robert deV. Frierson,
Deputy Secretary of the Board.

[FR Doc. 04-5702 Filed 3-11-04; 8:45 am]

BILLING CODE 6210-01-S